DEPARTMENT OF HEALTH AND HUMAN SERVICES

Health Resources and Services Administration

Renewal of Charter for the Advisory Committee on Organ Transplantation

AGENCY: Health Resources and Services Administration (HRSA), Department of Health and Human Services (HHS).

ACTION: Notice.

SUMMARY: HRSA is giving notice that the Advisory Committee on Organ Transplantation (ACOT) has been rechartered. The effective date of the renewed charter is September 1, 2016.

FOR FURTHER INFORMATION CONTACT: Robert Walsh, Executive Secretary, Advisory Committee on Organ Transplantation, HRSA, Room 08W60, 5600 Fishers Lane, Rockville, MD 20857. Phone: (301) 443-6839; fax: (301) 594-6095; email: rwalsh@hrsa.gov.

SUPPLEMENTARY INFORMATION: Under the authority of 42 U.S.C. Section 217a, Section 222 of the Public Health Service Act, as amended, 42 CFR 121.12 (2000), and in accordance with the Federal Advisory Committee Act (FACA), Public Law 92-463, ACOT was initially chartered on September 1, 2000, and was renewed at appropriate intervals. ACOT provides advice to the Secretary of HHS (the Secretary) on all aspects of organ donation, procurement, allocation, and transplantation, and on such other matters that the Secretary determines. The recommendations of ACOT facilitate Department efforts to oversee the Organ Procurement and Transplantation Network, as set forth in the National Organ Transplant Act of 1984, as amended.

On August 31, 2016, the Secretary approved the ACOT charter to be renewed. The filing date of the renewed charter was September 1, 2016. Renewal of the ACOT charter gives authorization for the Committee to operate until September 1, 2018.

A copy of the ACOT charter is available on the ACOT Web site at http://www.organdonor.gov/legislation/advisory.html. A copy of the charter also can be obtained by accessing the FACA database that is maintained by the Committee Management Secretariat under the General Services Administration. The Web site address for the FACA database is http://www.facadatabase.gov/.

Jason E. Bennett,
Director, Division of the Executive Secretariat.

[FR Doc. 2016-22858 Filed 9-21-16; 8:45 am]

BILLING CODE 4165-15-P